DEPARTMENT OF THE INTERIOR

National Park Service

[8145-8B90-SZM]

Dog Management Plan/Environmental Impact Statement, Golden Gate National Recreation Area, California

AGENCY: National Park Service.

ACTION: Notice of Availability of a Draft Environmental Impact Statement for the Dog Management Plan, Golden Gate National Recreation Area.

SUMMARY: Pursuant to the National Environmental Policy Act of 1969, 42 U.S.C. 4332(2) (C), the National Park Service (NPS) is releasing a Draft Environmental Impact Statement for the Dog Management Plan (Draft Plan/EIS), Golden Gate National Recreation Area (GGNRA), California. Current dog management in GGNRA is based on a number of factors. Areas covered by the GGNRA Citizens' Advisory Commission's 1979 pet policy are managed in accordance with the June 2, 2005, decision by U.S. District Court for the Northern District of California (U.S. vs. Barley, Kieselhorst, and Sayad) affirming that the NPS may not enforce the NPS-wide regulation requiring on-leash walking of pets (36 CFR 2.15(a)(2)) in areas that were included in the 1979 pet policy until notice and comment rulemaking under Section 1.5(b) is completed. A Notice of Proposed Rulemaking will be published for notice and comment after comments on the Draft Plan/EIS have been received, evaluated, and addressed. A final rule will be published after the Final Plan/EIS has been published and a Record of Decision signed.

The purpose of the Draft Plan/EIS is to provide a clear, enforceable policy to determine the manner and extent of dog use in appropriate areas of GGNRA. This plan will promote the following objectives: preserve and protect natural and cultural resources and natural processes, provide a variety of visitor experiences, improve visitor and employee safety, reduce user conflicts, and maintain GGNRA resources and values for future generations.

The Draft Plan/EIS evaluates impacts of six alternatives for dog management in 21 areas of GGNRA. The range of alternatives includes the consensus recommendations of the GGNRA Negotiated Rulemaking Committee for Dog Management, the 1979 Pet Policy, 36 CFR 2.15, and voice-control dog walking. The preferred alternative combines site-specific treatments from multiple action alternatives and allows for a balanced range of visitor experiences, including areas that prohibit dogs and areas that allow on-leash and voice-control dog walking. It includes the following key elements: the Negotiated Rulemaking Committee's consensus agreements; on-leash and/or voice-control dog walking in certain, specific areas of GGNRA where impacts to sensitive resources and visitor experience are minimized; no dogs in areas of GGNRA where impacts are unacceptable and cannot be mitigated; a compliance-based management strategy measuring compliance in on-leash and voice-control dog walking areas which directs a range of management responses, including further restrictions or elimination of a use where compliance is not achieved; permits for more than three dogs in limited areas of GGNRA; and new lands closed to dog walking, but opened for on-leash dog walking by compendium if certain criteria are met.

DATES: The NPS will accept comments on the Draft Plan/EIS for 90 days following publication by the Environmental Protection Agency (EPA) of their notice of availability of the Draft Plan/EIS. After the EPA notice has been published, the NPS will schedule four open-house style public meetings during the comment period. Dates, times, and locations of these meetings will be announced in press releases, e-mail announcements and on the project website at http://parkplanning.nps.gov/goga.

ADDRESSES: Copies of the Draft Plan/EIS will be available for public review at http://parkplanning.nps.gov/goga. A limited number of printed copies will be available at Park Headquarters, Fort Mason, Building 201, San Francisco, CA 94123, or a copy may be requested, as long as supplies last, from Frank Dean, General Superintendent, at the address noted above. Copies will also be available at local libraries in San Mateo, San Francisco and Marin Counties, as well as in Berkeley and Oakland.

SUPPLEMENTARY INFORMATION: If you wish to comment electronically, you may submit your comments online by visiting http://parkplanning.nps.gov/goga, clicking on open for comment, clicking on Dog Management Plan/EIS, and then clicking on Comment on Document. If you wish to submit written comments (e.g. in a letter), you may send them by U.S. Postal Service or other mail delivery service or hand-deliver them to: Frank Dean, General Superintendent, Golden Gate National Recreation Area, Fort Mason, Building 201, San Francisco, CA 94123. Oral statements and written comments will also be accepted during the hearing-style public meetings. Comments will not be accepted by fax, e-mail, or in any other way than those specified above. Bulk comments in any format (hard copy or electronic) submitted on behalf of others will not be accepted. Before including your address, phone number, e-mail address, or other personal identifying information in your comment, you should be aware that your entire comment—including your personal identifying information—may be made publicly available at any time. While you may ask us in your comment to withhold your personal identifying information from public review, we cannot guarantee that we will be able to do so.

FOR FURTHER INFORMATION CONTACT: Shirwin Smith, Management Assistant, Golden Gate National Recreation Area, Fort Mason, Building 201, San Francisco, CA 94123 (415) 561-4947.

Dated: December 7, 2010.
George J. Turnbull,
Acting Regional Director, Pacific West Region.

[FR Doc. 2011-1085 Filed 1-19-11; 8:45 am]

BILLING CODE 4312-FN-P